DEPARTMENT OF HEALTH AND HUMAN SERVICES

Centers for Medicare & Medicaid Services

Medicaid Program: Notice of Single Source Grant Award to the State of Louisiana for the Grant Entitled “Deficit Reduction Act—Hurricane Katrina Healthcare Related Primary Care Access Stabilization Grant”

AGENCY: Centers for Medicare & Medicaid Services (CMS), HHS.

ACTION: Notice.

Funding Amount: $100,000,000.

Period of Performance: July 23, 2007 through September 30, 2010.

CFDA: 93.776.

Authority: Section 6201(a)(4) of the Deficit Reduction Act of 2005 (DRA).

Purpose: This grant program has been made available to the State of Louisiana to restore and expand access to primary care, including primary mental health care, in the Greater New Orleans area. This area is facing inadequate primary care access as a result of Hurricane Katrina and its subsequent floods causing a unique negative impact on the low income and uninsured populations of Greater New Orleans. Funding under this grant program must be used by the State of Louisiana to assist it to make payments for purposes of addressing primary health care access issues in Greater New Orleans' “impacted communities”, defined for purposes of this grant, to be those four parishes located in the State of Louisiana's Region 1, as defined by the Louisiana Department of Health and Hospitals, namely, Orleans, Jefferson, St. Bernard, and Plaquemines. This grant includes $4,000,000 for the City of New Orleans Health Department to help restore its ability to meet its primary care mission in new and emerging neighborhoods being repopulated.

The grant funds must be used only for funding eligible primary care clinics that: Provide at least one or more of the core primary care services with its own practitioners in an outpatient setting; formally commit to provide care to all individuals, regardless of ability to pay; are either a public or not-for-profit (NFP) entity that is sustainable; and demonstrate commitment to practice in the Greater New Orleans area for the long term. Because of the urgent need to get funds out as timely as possible under less than ideal local circumstances, the State of Louisiana has selected a locally based partner (that was able to meet certain criteria) to oversee and monitor local conditions, and run the grant day-to-day. Administrative expenses will be capped at .5 percent for the State and 5 percent for the local partner.

The State of Louisiana, in consultation with its local partner, has flexibility subject to approval by the Centers for Medicare & Medicaid Services (CMS) in determining the funding allocation methodology to grantee clinics/subawardees, as long as it includes a standardization of “units of care” across all grantee clinics, and includes a base award and supplementary payments that meet the intent of the grant.

This award was made based on the authority granted by section 6201 of the Deficit Reduction Act (DRA). In particular, section 6201(a)(4) of the DRA provides authority to the Secretary, Department of Health and Human Services (DHHS), to make payments to States to restore access to health care in communities impacted by Hurricane Katrina.

Under the authority of section 6201(a)(4) of the DRA of 2005, the Secretary has invoked his authority to restore health care in impacted communities affected by Hurricane Katrina by offering this unique funding opportunity to stabilize primary health care access to the Greater New Orleans area, which is facing inadequate primary care access as a result of Hurricane Katrina and its subsequent floods.

Louisiana is the only State with the knowledge and ability to administer a grant designed to affect impacted Louisiana communities. For this reason, the Secretary has directed CMS to offer a single-source award to the State of Louisiana to help strengthen and increase primary care access to the Greater New Orleans area and by helping to increase the supply of health care providers negatively impacted as a result of this hurricane.

FOR FURTHER INFORMATION CONTACT: Wendy J. Taparanskas, Ph.D., Health Insurance Specialist, Finance, Systems, and Budget Group, Center for Medicaid and State Operations, Centers for Medicare & Medicaid Services, Mail Stop S3-13-15, 7500 Security Boulevard, Baltimore, MD 21244, (410) 786-5245.

Authority: Section 6201(a)(4) of the Deficit Reduction Act of 2005 (DRA).

Dated: August 30, 2007.
Herb B. Kuhn,
Acting Deputy Administrator, Centers for Medicare & Medicaid Services.

[FR Doc. E7-17560 Filed 9-5-07; 8:45 am]

BILLING CODE 4120-01-P